DEPARTMENT OF TRANSPORTATION

Federal Aviation Administration

Proposed Technical Standard Order (TSO) C-154, Universal Access Transceiver Equipment

AGENCY: Federal Aviation Administration (DOT)

ACTION: Notice of availability and requests for public comment.

SUMMARY: This notice announces the availability of and requests comments on a proposed Technical Standard Order (TSO) C-154, Universal Access Transceiver (UAT) Automatic Dependent Surveillance—Broadcast (ADS-B) Equipment Operating on the Frequency of 978 MHz. This draft TSO tells persons seeking a TSO authorization or letter of design approval what minimum performance standards (MPS) their UAT equipment must meet to be identified with the applicable TSO marking.

DATES: Comments must identify the TSO file number and be received on or before October 22, 2002.

ADDRESSES: Send all comments on the proposed technical standard order to: Technical Programs and Continued Airworthiness Branch, AIR-120, Aircraft Engineering Division, Aircraft Certification Service—File No. TSO-C154, Federal Aviation Administration, 800 Independence Avenue, SW., Washington, DC 20591. Or deliver comments to: Federal Aviation Administration, Room 815, 800 Independence Avenue, SW., Washington, DC 20591.

FOR FURTHER INFORMATION CONTACT: Ms. Bobbie J. Smith, Technical Programs and Continued Airworthiness Branch, AIR-120, Aircraft Engineering Division, Aircraft Certification Service, Federal Aviation Administration, 800 Independence Avenue, SW., Washington, DC 20591, Telephone (202) 267-9546.

SUPPLEMENTARY INFORMATION:

Comments Invited

Interested persons are invited to comment on the proposed TSO listed in this notice by submitting such written data, views, or arguments as they desire to the above specified address. Comments received on the proposed technical standard order may be examined, before and after the comment closing date, in Room 815, FAA Headquarters Building (FOB-10A), 800 Independence Avenue, SW., Washington, DC 20591, weekdays except Federal holidays, between 8:30 a.m. and 4:30 p.m. All communications received on or before the closing date for comments specified above will be considered by the Director of the Aircraft Certification Service before issuing the final TSO.

Background

This proposed TSO prescribes the minimum standards for airborne equipment to support Automatic Dependent Surveillance—Broadcast (ADS-B) using Universal Access Transceiver (UAT) equipment operating on the frequency of 978 MHz. ADS-B is a system by which aircraft and certain equipped surface vehicles can share position, velocity, and other information with one another (and also with ground-based facilities such as air traffic services) via radio broadcast techniques. UTA is a multi-purpose aeronautical datalink system intended to support not only ADS-B, but also Flight Information Service—Broadcast (FIS-B), Traffic Information Service—Broadcast (TIS-B), and supplementary ranging and positioning capabilities. Two major classes of UAT equipment are supported by this TSO; Class A( ) equipment which incorporates both a broadcast and receive subsystem, and Class B( ) equipment which supports broadcast only.

How To Obtain Copies

A copy of the proposed TSO-C154 may be obtained via the information contained in section titled “For Further Information Contact”, or from the FAA Internet web site at http://www.faa.govcertification/aircraft/tsoa.htm. Copies of RTCA Document No's. RTCA/DO-160D, “Environmental Conditions and Test Procedures for Airborne Equipment,” dated July 29, 1997; RTCA/DO-178B, “Software Considerations in Airborne Systems and Equipment Certification,” dated December 1, 1992; RTCA Document No. DO-242A, “Minimum Aviation System Performance Standards for Automatic Dependant Surveillance-Broadcast (ADS-B)” dated June 25, 2002; and RTCA/DO-282, “Minimum Operational Performance Standards for Universal Access Trnasceiver (UAT) Automatic Dependant Surveillance—Broadcast (ADS-B)” dated August 27, 2002, may be purchased from RTCA, Inc., 1828 L Street, NW., Suite 815, Washington, DC 20036. Copies can also be obtained through the RTCA Internet web site at http://www.rtca.org/

Issued in Washington, DC, on September 19, 2002.
Stephen P. Van Trees,
Acting Manager, Aircraft Engineering Division, Aircraft Certification Service.

[FR Doc. 02-25052 Filed 10-1-02; 8:45 am]

BILLING CODE 4910-13-M